DEPARTMENT OF HEALTH AND HUMAN SERVICES

Food and Drug Administration

21 CFR Part 573

[Docket No. FDA-2024-F-3879]

Food Additives Permitted in Feed and Drinking Water of Animals; Fermented Ammoniated Condensed Whey

AGENCY: Food and Drug Administration, HHS.

ACTION: Final rule; technical amendment.

SUMMARY: The Food and Drug Administration (FDA) is amending the food additive regulations to update the production organism Lactobacillus bulgaricus that has been scientifically reclassified to Lactobacillus delbrueckii. This action is being taken to improve the accuracy and clarity of the regulations.

DATES: This rule is effective August 22, 2024.

FOR FURTHER INFORMATION CONTACT: Chelsea Cerrito, Center for Veterinary Medicine, Division of Animal Food Ingredients, Food and Drug Administration, 12225 Wilkins Ave., Rockville, MD 20852, 240-402-6729, Chelsea.Cerrito@fda.hhs.gov.

SUPPLEMENTARY INFORMATION: FDA is amending the food additive regulation at 21 CFR 573.450 Fermented ammoniated condensed whey for use in animal feed to update the production organism Lactobacillus bulgaricus that has been scientifically reclassified to Lactobacillus delbrueckii. This action is being taken to improve the accuracy and clarity of the regulations.

Publication of this document constitutes final action under the Administrative Procedure Act (5 U.S.C. 553). FDA has determined that notice and public comment are unnecessary because this amendment to the regulations provides only technical changes to update scientific nomenclature and is nonsubstantive.

List of Subjects in 21 CFR Part 573

Animal feeds, Food additives.

Therefore, under the Federal Food, Drug, and Cosmetic Act, and the Public Health Service Act, and under the authority delegated to the Commissioner of Food and Drugs, 21 CFR part 573 is amended as follows:

PART 573—FOOD ADDITIVES PERMITTED IN FEED AND DRINKING WATER OF ANIMALS

1. The authority citation for part 573 continues to read as follows:

Authority: 21 U.S.C. 321, 342, 348.

§ 573.450 [Amended]

2. In § 573.450, in paragraph (a), remove “Lactobacillus bulgaricus” and in its place add “Lactobacillus delbrueckii”.

Dated: August 16, 2024.
Lauren K. Roth,
Associate Commissioner for Policy.

[FR Doc. 2024-18824 Filed 8-21-24; 8:45 am]

BILLING CODE 4164-01-P